GENERAL ACCOUNTING OFFICE

Appointments to the Medicare Payment Advisory Commission

AGENCY: General Accounting Office (GAO).

ACTION: Notice of appointments.

SUMMARY: The Balanced Budget Act of 1997 established the Medicare Payment Advisory Commission (MedPAC) and gave the Comptroller General responsibility for appointing its members. This notice announces three new appointments and two reappointments to fill the vacancies occurring this year.

DATES: Appointments are effective May 1, 2002 through April 30, 2005.

ADDRESSES: GAO: 441 G Street, NW., Washington, DC 20548. MedPAC: 1730 K Street, NW., Suite 800, Washington, DC 20006.

FOR FURTHER INFORMATION CONTACT: GAO: Molly Ryan, 202/512-3592. MedPAC: Murray N. Ross, Ph.D., 202/653-7220.

SUPPLEMENTARY INFORMATION: To fill this year's vacancies I am announcing the following: Newly appointed members are Nancy-Ann DeParle, J.D., Senior Advisor, JP Morgan Partners and Adjunct Professor at the Wharton School of the University of Pennsylvania; David F. Durenberger, President, Public Policy Partners, Inc.: Senior Health Policy Fellow at the Graduate School of Business, University of St. Thomas; Chairman and Chief Executive Officer, University of St. Thomas/University of Minnesota's National Institute of Health Policy; and former Senator from Minnesota; and Nicholas J. Wolter,M.D., Chief Executive Officer, Deaconess Billings Clinic and Pulmonary and Critical Care Physician, Billings Clinic. Reappointed members are Carol Raphael, President and Chief Executive Officer, Visiting Nurse Service of New York; and Mary K. Wakefield, Ph.D., R.N., Director, Center for Rural Health, University of North Dakota School of Medicine and Health Sciences.

(Sec. 4022, Pub. L. 105-33, 111 Stat. 251, 350)
David M. Walker,
Comptroller General of the United States.

[FR Doc. 02-14623 Filed 6-10-02; 8:45 am]

BILLING CODE 1610-02-M